DEPARTMENT OF TRANSPORTATION

National Highway Traffic Safety Administration

[Docket No. NHTSA-2016-0053]

Reports, Forms and Recordkeeping Requirements, Agency Information Collection Activity Under OMB Review

AGENCY: National Highway Traffic Safety Administration (NHTSA), DOT

ACTION: Notice.

SUMMARY: In compliance with the Paperwork Reduction Act of 1995 (44 U.S.C. 3501 et seq.), this notice announces that the collection of information abstracted below will be forwarded to the Office of Management and Budget (OMB) for review and comment. The notice describes the nature of the information collection and its expected burden. The Federal Register Notice with a 60-day comment period was published on May 2, 2016 (81 FR 26312). No comments were received.

COMMENTS: Comments should be directed to the Office of Information and Regulatory Affairs, Office of Management and Budget, 725 17th Street NW., Washington, DC 20503, Attention NHTSA Desk Officer.

TYPE OF REQUEST: Extension of a currently approved collection.

FORM NUMBER: This collection of information uses no standard forms.

DATES: Comments must be submitted on or before October 7, 2016.

FOR FURTHER INFORMATION CONTACT: Jordan Stephens, Office of the Chief Counsel, NCC-100, National Highway Traffic Safety Administration, 1200 New Jersey Avenue SE., Washington, DC 20590 (telephone: 202-366-8534). Please identify the relevant collection of information by referring to OMB Clearance Number 2127-0609 “Criminal Penalty Safe Harbor Provision.”

SUPPLEMENTARY INFORMATION:

Agency: National Highway Traffic Safety Administration

Title: Criminal Penalty Safe Harbor Provision

OMB Control Number: 2127-0609

Frequency: We believe that there will be very few criminal prosecutions under 49 U.S.C. 30170, given its elements. Since the safe harbor related rule has been in place, the Agency has not received any reports. Accordingly, the rule is not likely to be a substantial motivating force for a submission of a proper report. See Summary of the Collection of Information below. We estimate that no more than one person a year would invoke this collection of information, and we do not anticipate receiving more than one report a year from any particular person.

Affected Public: This collection of information applies to any person who seeks a “safe harbor” from potential criminal liability for violating section 1001 of title 18 with respect to the reporting requirements of 49 U.S.C. 30166, with the specific intention of misleading the Secretary with respect to a safety-related defect in motor vehicles or motor vehicle equipment that caused death or serious bodily injury to an individual. Thus, the collection of information applies to the manufacturers, and any officers or employees thereof, who respond or have a duty to respond to an information provision requirement pursuant to 49 U.S.C. 30166 or a regulation, requirement, request or order issued thereunder.

Abstract: This information collection was mandated by Section 5 of the Transportation Recall Enhancement, Accountability, and Documentation (TREAD) Act, codified at 49 U.S.C. 30170(a)(2). The information collected will provide NHTSA with information the Agency should have received previously and will also promptly provide the Agency with correct information to do its analyses, such as, for example, conducting tests or drawing conclusions about possible safety-related defects. NHTSA anticipates using this information to help it accomplish its statutory assignment of identifying safety-related defects in motor vehicles and motor vehicle equipment and, when appropriate, seeking safety recalls.

Estimated Annual Burden: As stated before, we estimate that no more than one person a year would be subject to this collection of information. Incrementally, we estimate that on average it will take no longer than two hours for a person to compile and submit the information we are requiring to be reported. Therefore, the total burden hours on the public per year is estimated to be a maximum of two hours.

Since nothing in the rule requires those persons who submit reports pursuant to this rule to keep copies of any records or reports submitted to us, recordkeeping costs imposed would be zero hours and zero costs.

Number of Respondents: We estimate that there will be no more than one per year.

Summary of the Collection of Information: Each person seeking protection from criminal penalties under 49 U.S.C. 30170 related to an improper report or failure to report is required to report the following information to NHTSA: (1) A signed and dated document that identifies (a) each previous improper report and each failure to report as required under 49 U.S.C. 30166, including a regulation, requirement, request or order issued thereunder, for which protection is sought and (b) the specific predicate under which the improper or omitted report should have been provided; and (2) the complete and correct information that was required to be submitted but was improperly submitted or was not previously submitted, including relevant documents that were not previously submitted to NHTSA or, if the person cannot do so, provide a detailed description of that information and/or the content of those documents and the reason why the individual cannot provide them to NHTSA. See 49 U.S.C. 30170(a)(2) and 49 CFR 578.7; see also 66 FR 38380 (July 24, 2001) (safe harbor final rule); 65 FR 81414 (Dec. 26, 2000) (safe harbor interim final rule).

ADDRESSES: Send comments, within 30 days, to the Office of Information and Regulatory Affairs, Office of Management and Budget, 725 17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is most effective if OMB receives it within 30 days of publication.

Authority: 44 U.S.C. 3506; delegation of authority at 49 CFR 1.95.

Issued: August 30, 2016.
Paul A. Hemmersbaugh,
Chief Counsel.

[FR Doc. 2016-21426 Filed 9-6-16; 8:45 am]

BILLING CODE 4910-59-P